SMALL BUSINESS ADMINISTRATION

[Declaration of Disaster #3439]

State of California

Santa Clara County and the contiguous counties of Alameda, San Mateo, San Joaquin, Stanislaus, San Benito, Santa Cruz and Merced in the State of California constitute a disaster area as a result of a fire that occurred on August 19, 2002 in building #7 of the Santana Row Development in San Jose, California. The fire destroyed the unoccupied residential floors of the Santana Row Development and surrounding homes and businesses. Applications for loans for physical damage as a result of this disaster may be filed until the close of business on November 4, 2002 and for economic injury until the close of business on June 5, 2003 at the address listed below or other locally announced locations: Small Business Administration, Disaster Area 4 Office, P. O. Box 13795, Sacramento, CA 95853-4795.

The interest rates are:

| Percent
For Physical Damage:
Homeowners with credit available elsewhere | 6.625
Homeowners without credit available elsewhere | 3.312
Businesses with credit available elsewhere | 7.000
Businesses and non-profit organizations without credit available elsewhere | 3.500
Others (including non-profit organizations) with credit available elsewhere | 6.375
For Economic Injury:
Businesses and small agricultural cooperatives without credit available elsewhere | 3.500

The number assigned to this disaster for physical damage is 343905 and for economic damage is 9R3100.

(Catalog of Federal Domestic Assistance Program Nos. 59002 and 59008)

Dated: September 5, 2002.
Hector V. Barreto,
Administrator.

[FR Doc. 02-23409 Filed 9-13-02; 8:45 am]

BILLING CODE 8025-01-P